DEPARTMENT OF TRANSPORTATION

Federal Aviation Administration

Public Notice For Waiver of Aeronautical Land-Use Assurance; Former Willmar Municipal Airport Willmar, MN

AGENCY: Federal Aviation Administration, DOT.

ACTION: Notice of intent of waiver with respect to land.

SUMMARY: The Federal Aviation Administration (FAA) is considering a proposal to authorize the release of approximately 482.21 acres of the airport property at the Former Willmar Municipal Airport, Willmar MN.

The acreage being released is not needed for aeronautical use as the City built a new replacement airport that became operational in 2006.

The acreage was originally acquired with local, State of Minnesota, and federal funds. The federal funds associated with the land came from a Federal Aid to Airports Grant in 1957 (Grant Number 9-21-040-5702). The FAA approved a Finding of No Significant Impact for the release of the former Willmar Municipal Airport on September 20, 2013. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 5, 2016.

ADDRESSES: Ms. Nancy Nistler, Program Manager, Federal Aviation Administration, Airports District Office, 6020 28th Avenue South, Room 102, Minneapolis, MN 55450-2706. Telephone Number (612)253-4638/FAX Number (612)253-4611. Documents reflecting this FAA action and the legal description of the property may be reviewed at this same location or at the Minnesota Department of Transportation, 222 East Plato Blvd., St. Paul MN, 55107

FOR FURTHER INFORMATION CONTACT: Ms. Nancy Nistler, Program Manager, Federal Aviation Administration, Airports District Office, 6020 28th Avenue South, Room 102, Minneapolis, MN 55450-2706. Telephone Number (612)253-4638/FAX Number (612)253-4611. Documents reflecting this FAA action and the legal description of the property may be reviewed at this same location or at the Minnesota Department of Transportation, 222 East Plato Blvd., St. Paul MN, 55107.

SUPPLEMENTARY INFORMATION: Following is a description of the subject airport property to be released at Former Willmar Municipal Airport in Willmar, Minnesota and described as follows:

Approximately 482.21 acres of airport property at the Former Willmar Municipal Airport which includes the land encompassing the runway area of the former airport that is east and west of County Road 55, north of Minnesota State Highway 40 (MN-40) and east of County Road 5; land for the former airport terminal building and extending east to 18th Street SW and South to 15th Avenue SW; a parcel of land south of US Highway 12 and east of County Road 5, and a parcel of land south of MN-40 and east of County Road 55.

Said parcel subject to all easements, restrictions, and reservations of record.

Issued in Minneapolis, MN on May 18, 2016.
Andy Peek,
Manager, Dakota-Minnesota Airports District Office, FAA, Great Lakes Region.

[FR Doc. 2016-13143 Filed 6-2-16; 8:45 am]

BILLING CODE 4910-13-P